DEPARTMENT OF JUSTICE

Notice of Lodging of Proposed Consent Decrees Under the Clean Water Act and Resource Conservation and Recovery Act

On August 28, 2017, the Department of Justice lodged a proposed consent decree with the United States District Court for the Northern District of Georgia in the lawsuit entitled United States of America and State of Georgia v. Woco Pep Oil, Inc., Civil Action No. 1:17-cv-3249.

The United States and State of Georgia filed this lawsuit under the Clean Water Act (“CWA”) and the Resource Conservation and Recovery Act (“RCRA”). The complaint names Woco Pep Oil, Inc. as defendant. The complaint seeks injunctive relief necessary for the Defendant to achieve compliance with the CWA and RCRA, as well as the imposition of civil penalties for violations of the law. Under the proposed Consent Decree, the defendant agrees to pay a civil penalty of $24,000 to be divided evenly between the State and the United States. The Defendant further agrees under the proposed Consent Decree to perform injunctive relief which will bring it into compliance with the law and to perform a Supplemental Environmental Project (“SEP”). The SEP requires the Defendant to install advanced technology to improve leak detection at its facilities that exceeds the minimum standards set forth in applicable regulations.

The publication of this notice opens a period for public comment on the Consent Decree. Comments should be addressed to the Assistant Attorney General, Environment and Natural Resources Division, and should refer to United States and State of Georgia v. Woco Pep Oil, Inc., D.J. Ref. No. 90-7-1-10401. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: https://www.justice.gov/enrd/consent-decrees. We will provide a paper copy of the consent decrees upon written request and payment of reproduction costs. Please mail your request and payment to: Consent Decree Library, U.S. DOJ—ENRD, P.O. Box 7611, Washington, DC 20044-7611.

Please enclose a check or money order for $16.50 for the Consent Decree (25 cents per page reproduction cost) payable to the United States Treasury.

Henry Friedman,
Assistant Section Chief, Environmental Enforcement Section, Environment and Natural Resources Division.

[FR Doc. 2017-19300 Filed 9-11-17; 8:45 am]

BILLING CODE 4410-15-P